DEPARTMENT OF HEALTH AND HUMAN SERVICES

Centers for Disease Control and Prevention

Agency for Toxic Substances and Disease Registry

[Program Announcement 04004]

Public Health Conference Grant Program; Notice of Availability of Funds-Amendment

A notice announcing the availability of fiscal year 2004 funds to support a Public Health Conference Grant Program was published in the Federal Register on August 28, 2003, Volume 68, Number 167, pages 51781-51785. The notice is amended as follows: page 51782, second column, Section D. Funding, third paragraph, delete lines 11 through 15, “Application requests that exceed $50,000 (CDC) or $10,000 (ATSDR) will be determined as non responsive and will be returned to the applicant without review”.

Page 51783, second column, Section G. Content, after the second paragraph, insert:

The LOI should specifically describe the following requirements:

• The name of the organization

• Primary contact person's name

• Mailing address

• Telephone number and, if available, fax number and e-mail

• Title of the proposed conference—include the term “conference,” “symposium,” or similar designation

• Date(s) of conference—inclusive dates (not a series) of the conference

• Location of city, State, and physical facilities required for the conduct of the meeting

• Project topics, (no more than 2)

• Total conference cost and total requested from CDC

• Intended audience, approximate number, and profession of persons expected to attend.

• Justification for the conference

These changes apply only to Cycles B and C of the conference support application and funding process.

Dated: November 3, 2003.
Edward Schultz,
Acting Director, Procurement and Grants Office, Centers for Disease Control and Prevention.

[FR Doc. 03-28021 Filed 11-6-03; 8:45 am]

BILLING CODE 4163-18-P